DEPARTMENT OF TRANSPORTATION

Coast Guard

33 CFR Part 100, 117 and 165

[USCG-2002-13238]

Safety Zones, Security Zones, Drawbridge Operation Regulations and Special Local Regulations

AGENCY: Coast Guard, DOT.

ACTION: Notice of temporary rules issued; correction.

SUMMARY: This document corrects a notice of temporary rules issued published in the Federal Register on July 30, 2002, collecting those temporary rules issued by the Coast Guard for which timely publication in the Federal Register was not possible. That document contained an inaccurate docket number. The correct docket number appears in the heading of this document.

FOR FURTHER INFORMATION CONTACT: LTJG Sean Fahey, Office of Regulations and Administrative Law, at (202) 267-2830.

SUPPLEMENTARY INFORMATION:

Correction

The heading of the notice of temporary rules issued published July 30, 2002, on page 49236 of the Federal Register, contained an incorrect docket number, USCG-2002-11544. The correct docket number is USCG-2002-13238. To advise the public of this error, we are publishing this notice of correction.

Correction of Publication

Accordingly, the notice of temporary rules issued published July 30, 2002, FR Doc. 02-19135, [docket number USCG-2002-11544], is corrected as follows: On page 49236, in the heading, “USCG-2002-11544” is corrected to read “USCG-2002-13238”.

Dated: August 27, 2002.
S.G. Venckus,
Chief, Office of Regulations and Administrative Law, United States Coast Guard.

[FR Doc. 02-22341 Filed 8-30-02; 8:45 am]

BILLING CODE 4910-15-P